DEPARTMENT OF DEFENSE

Department of the Army

32 CFR Part 619

Program for Qualifying DOD Freight Motor Carriers, Exempt Surface Freight Forwarders, Shippers Agents, and Freight Brokers

AGENCY: Headquarters Military Traffic Management Command (MTMC), DoD.

ACTION: Final rule.

SUMMARY: This action removes 32 CFR Part 619 published in the Federal Register Aug 20, 1993 (58 FR 44405, amended at 61 FR 49060, Sept. 18, 1996). The rule is being removed to allow for publication in MTMC rules publication. This rule is now obsolete and no longer applies to or governs the qualifications of carriers to do business with MTMC or with the Department of Defense.

DATES: Effective December 20, 2001.

ADDRESSES: Headquarters Military Traffic Management Command, ATTN: MTOP-MRM (Mr. Rick Wirtz, TMS) 200 Stovall Street, Alexandria, VA 22332.

FOR FURTHER INFORMATION CONTACT: Mr. Rick Wirtz, (703) 428-2382

SUPPLEMENTARY INFORMATION: The Commander, MTMC, is the proponent of this rule and, acting with the advice of his acquisition, operations and legal staffs, had concluded that it is obsolete. Due to changes in the laws governing interstate commerce, including a transition of much of our procurement from nonFAR to FAR contract procedures, there is no longer any necessity for this rule. Under FAR contracting the contracting Officer has the responsibility for making determinations as to whether a carrier bidder is a responsible bidder who is qualified to do business with the DoD under the contract in issue.

This rule has been replaced with a simpler program, which meets the requirements of the current Interstate Commerce Act and the requirements of our current transportation needs. The current procedures for carriers to follow in order to qualify for doing business with MTMC are published on the MTMC Home Page. The carrier industry has been properly notified of this change and is currently following the new procedures to the satisfaction of all parties. The new program for qualifying carriers is not a “Rule”, as that term is used in rulemaking proceedings under the Administrative Procedures Act and thus does not require publication in the Code of Federal Regulations or in the Federal Register. We understand that the volume of the CFR that contains 49 CFR Part 619 is due to be reprinted soon. Therefore, it would be helpful in avoiding confusion with the public if 32 CFR Part 619 is removed.

List of Subjects in 32 CFR Part 619

Program for Qualifying DOD Freight Motor Carriers, Exempt Surface Freight Forwarders, Shippers Agents, and Freight Brokers.

PART 619—[REMOVED]

Accordingly, for reasons stated in the preamble, under the authority: 49 U.S.C. 5101-5127, 31132, 31136, and 31142, 32 CFR Part 619, Program for Qualifying DOD Freight Motor Carriers, Exempt Surface Freight Forwarders, Shippers Agents, and Freight Brokers, is removed in its entirety.

Ms. Luz D. Ortiz,
Army Federal Register Liaison Officer.

[FR Doc. 01-31357 Filed 12-19-01; 8:45 am]

BILLING CODE 3710-08-M